DEPARTMENT OF THE INTERIOR

National Indian Gaming Commission

25 CFR Parts 502, 513, 514, 516, 522, 531, 533, 535, 556, 559, 571, 573, 575, and 580

RIN 3141-AA50, 3141-AA25, 3141-AA40, 3141-AA20, 3141-AA23, 3141-AA46, 3141-AA58, 3141-AA13, 3141-AA63, 3141-AA48, 3141-AA49, 3141-AA50, 3141-AA08, 3141-AA47

Various National Indian Gaming Commission Regulations

AGENCY: National Indian Gaming Commission, Interior.

ACTION: Correcting amendments.

SUMMARY: The National Indian Gaming Commission (NIGC or Commission) makes corrections to various regulations previously issued. The Commission recently moved its headquarters resulting in the need to update the Commission's mailing address. Additionally, the current regulations contain outdated references to previous regulations that no longer exist. The amendments also correct various minor grammatical errors.

DATES: Effective June 22, 2015.

FOR FURTHER INFORMATION CONTACT: NIGC Attn: Maria Getoff, Senior Attorney, C/O Department of the Interior, 1849 C Street NW., Mail Stop #1621, Washington, DC 20240, or by telephone at 202-632-7003.

SUPPLEMENTARY INFORMATION:

I. Background

The Indian Gaming Regulatory Act (IGRA or the Act), Public Law 100-497, 25 U.S.C. 2701 et seq., was signed into law on October 17, 1988. The Act established the Commission and set out a comprehensive framework for the regulation of gaming on Indian lands. The purposes of the Act include: Providing a statutory basis for the operation of gaming by Indian tribes as a means of promoting tribal economic development, self-sufficiency, and strong tribal governments; ensuring that the Indian tribe is the primary beneficiary of the gaming operation; and declaring that the establishment of independent federal regulatory authority for gaming on Indian lands, the establishment of federal standards for gaming on Indian lands, and the establishment of a National Indian Gaming Commission are necessary to meet congressional concerns regarding gaming and to protect such gaming as a means of generating tribal revenue. 25 U.S.C. 2702.

II. Previous Rulemaking Activity

On August 9, 2012, the Commission published a final rule amending 25 CFR part 573 (Compliance and Enforcement) to include a graduated pre-enforcement process through which a tribe may come into voluntary compliance. 77 FR 47517, Aug. 9, 2012. This document updates references in 25 CFR part 514 that are no longer accurate due to those amendments.

On September 25, 2012, the Commission published a final rule consolidating all appeal proceedings before the Commission into a (then) new subchapter H (Appeal Proceedings Before the Commission), thereby removing former parts 524, 539, and 577. 77 FR 58941, Sept. 25, 2012. This document updates 25 CFR parts 513, 514, 522, 533, 535, 571, 573, and 575 to remove references to those parts no longer in existence.

On January 25, 2013, the Commission published a final rule amending 25 CFR parts 556 and 558 (Background investigations and Gaming Licenses for Key Employees and Primary Management Officials) to streamline certain submissions to the Commission and to ensure that certain tribal notifications comply with the Act. 78 FR 5276, Jan 25. 2013. This document updates 25 CFR part 573 to reflect the amendments to those parts.

In June of 2014, the Commission relocated its headquarters. This document updates the mailing address contained within 25 CFR parts 514 and 516. The Commission also identified minor grammatical errors in certain other regulations and now corrects those errors.

III. Corrections

25 CFR Part 502—Definitions of This Chapter

This document revises the definition of “Chairman” in 25 CFR 502.1 to include the word “Chair.” This reflects the gender-neutral term that occurs elsewhere in the Commission's regulations. No substantive change is intended with this correction.

25 CFR Part 513—Debt Collection

This document revises 25 CFR 513.4(b) and 513.32(a) to remove references to the appeal procedures formerly found at 25 CFR part 577 (which no longer exists). It now references the appeal procedure at 25 CFR parts 580-585. This document also corrects a grammatical error in § 513.32(a): In the third sentence, the first “matters” is corrected to the singular “matter,” while the second “matters” remains plural.

25 CFR Part 514—Fees

This document revises 25 CFR 514.8 and 514.17(c) to reflect the Commission's new mailing address. This document also amends 25 CFR 514.10 to revise paragraphs (a) and (b) to correct a reference from “25 CFR 573.6(a)(2)” to “25 CFR 573.4(a)(2).”

25 CFR Part 516—Testimony of Current and Former Commissioners and NIGC Employees; Response to Subpoenas

The document revises 25 CFR 516.4(b) to reflect the Commission's new mailing address.

25 CFR Part 522—Submission of Gaming Ordinance or Resolution

This document revises 25 CFR 522.5 and 522.7(a), (b) to remove references to 25 CFR part 524 (which no longer exists) and replaces them with references to 25 CFR part 582. This document also revises 25 CFR 522.10(c) and (f) to make minor grammatical changes. In paragraph (c), “Tribe” is changed to “tribe”; in paragraph (f), a comma is placed after “limits.”

25 CFR Part 531—Content of Management Contracts

This document amends 25 CFR 531.1 to revise paragraphs (b)(4), (b)(6), and (b)(16) by making minor grammatical changes and by clarifying certain requirements. In paragraph (b)(4), a comma is placed after “training”; in paragraph (b)(6), the word “gaming” is added before “operation's”; and in paragraph (b)(16), the phrase “National Indian Gaming Commission” is replaced with the word “Commission.” No substantive change is intended by these corrections.

25 CFR Part 533—Approval of Management Contracts

This document revises 25 CFR 533.2 to remove a reference to 25 CFR part 539 (which no longer exists) and replaces it with a reference to 25 CFR part 583. The document also amends 25 CFR 533.3, revising paragraphs (a)(1) and (a)(2) to make minor grammatical changes. In paragraph (a)(1), the word “and” is added to the end of the sentence; and in paragraph (a)(2), the word “and” is removed and replaced with a period. The document also revises 25 CFR 533.6(b)(3) to make a minor grammatical change, replacing “this” with “the.”

25 CFR Part 535—Post-Approval Procedures

This document revises 25 CFR 535.1(d)(2) to make a minor grammatical change. In paragraph (d)(2), a semicolon at the end of the paragraph is replaced with a period. This document also revises 25 CFR 535.1(d)(3) by removing references to “part 539” (which no longer exists) and replacing it with references to “part 583.” This document also revises 25 CFR 535.3 to remove a reference to “part 577” and to replace it with a reference to “parts 584 or 585.” A minor grammatical change is also made to the second sentence of § 535.3, replacing the word “void” with “voiding.” No substantive change is intended by this correction.

25 CFR Part 556—Background Investigations of Primary Management Officials and Key Employees

This document revises 25 CFR 556.2(a) to make a minor grammatical change by adding a comma after the word “criminal.” This document also revises 25 CFR 556.5(a)(3) by adding a comma after the word “habits.” Finally, this document revises 25 CFR 556.8 by removing the word “the” before “February” and adding a comma after “2013.”

25 CFR Part 559—Facility License Notification and Submissions

This document revises 25 CFR 559.1(a) by changing “obtain” to “obtains.” This document also revises 25 CFR 559.4 by adding a comma after the word “standards.” Finally, to mirror the language in the regulation, this document revises 25 CFR 559.5 by changing the section title from “Does a tribe need to” to “Must a tribe.”

25 CFR Part 571—Monitoring and Investigations

This document revises the second sentence of 25 CFR 571.3 by replacing the language “under part 577 of this chapter is addressed in § 577.8” with “is addressed in § 584.9.” This change is required because part 577 no longer exists and was replaced by the language found in 25 CFR part 584. The document revises 25 CFR 571.4 by replacing “NIGC” with “the Commission.” This change is intended to create uniformity in the agency's regulations. Additionally, 25 CFR 571.4 is revised to add “or resolution” after the word “ordinance.” Finally, this document revises 25 CFR 571.11 by removing a reference to a nonexistent “part 577” and replacing it with “part 584.”

25 CFR Part 573—Compliance and Enforcement

This document revises 25 CFR 573.1 by making a minor grammatical change. Specifically, “notice” is now changed to “notices.” Section 573.2(a) is revised by removing the word “respondent” from the regulation because the regulation does not involve official agency action, and therefore no “respondent” exists. No substantive change occurs as a result of this revision. In addition, 25 CFR 573.4 is amended to revise paragraphs (a)(1)(ii), (a)(5), (a)(10), and (c)(3). Paragraph (a)(1)(ii) is revised by replacing “provides” with “is served with.” A minor grammatical change is made to paragraph (a)(5), removing the phrase “having been,” as this change helps make the regulation easier to read. A minor grammatical change is also made to paragraph (a)(10), replacing “Indian Gaming Regulatory Act” with “the Act.” Paragraph (a)(10) is also revised to replace references to “§ 558.2” with “§ 556.5,” and “§ 558.5” with “§ 558.4.” Finally, paragraph (c)(3) is revised to replace a reference to “subchapter H,” with a reference to “parts 584 or 585” for clarity.

25 CFR Part 575—Civil Fines

This document amends 25 CFR 575.6 to revise paragraphs (a)(1) and (b) to replace references to “part 577” (which no longer exists) with references to “parts 584 or 585.” This document also revises 25 CFR 575.9 to replace references to “part 577” (which no longer exists) with references to “parts 584 or 585.” Section 575.9 is also revised by renumbering it to “575.7” due to a previous numbering error in the regulations.

25 CFR Part 580—Rules of General Application in Appeal Proceedings Before the Commission

This document revises 25 CFR 580.6 by making a minor grammatical change, replacing “in” with “from.” This document also revises 25 CFR 580.12 by replacing “NIGC” with “Commission” to create uniformity in the agency's regulations.

IV. Certain Findings

Under the Administrative Procedure Act, a notice of proposed rulemaking is not required when an agency, for good cause, finds that notice and public comments are impractical, unnecessary, or contrary to the public interest. Because the revisions here are technical in nature and intended solely to update the Commission's current mailing address, to correct outdated references, and to correct minor grammatical errors, the Commission is publishing a technical amendment.

V. Regulatory Matters

Regulatory Flexibility Act

This rule will not have a significant economic effect on a substantial number of small entities as defined by the Regulatory Flexibility Act, 5 U.S.C. 601, et seq. Indian tribes are not considered to be small entities for purposes of the Regulatory Flexibility Act.

Small Business Regulatory Enforcement Fairness Act

This rule is not a major rule under 5 U.S.C. 804(2), the Small Business Regulatory Enforcement Fairness Act. This rule does not have an annual effect on the economy of $100 million or more. This rule will not cause a major increase in costs or prices for consumers, individual industries, federal, state, or local government agencies or geographic regions, and does not have a significant adverse effect on competition, employment, investment, productivity, innovation, or the ability of U.S.-based enterprises to compete with foreign-based enterprises.

Unfunded Mandates Reform Act

The Commission, as an independent regulatory agency, is exempt from compliance with the Unfunded Mandates Reform Act, 2 U.S.C. 1502(1); 2 U.S.C. 658(1).

Takings

In accordance with Executive Order 12630, the Commission determined this proposed rule does not have significant takings implications. A takings implication assessment is not required.

Civil Justice Reform

In accordance with Executive Order 12988, the Commission determined that the rule does not unduly burden the judicial system and meets the requirements of sections 3(a) and 3(b)(2) of the Executive Order.

National Environmental Policy Act

The Commission has determined that this rule does not constitute a major federal action significantly affecting the quality of the human environment and that a detailed statement is not required pursuant to the National Environmental Policy Act of 1969, 42 U.S.C. 4321, et seq.

Paperwork Reduction Act

The information collection requirements contained in these rules were previously approved by the Office of Management and Budget as required by the Paperwork Reduction Act, 44 U.S.C. 3501, et seq., and assigned the following OMB control numbers with the applicable expiration dates: (i) 3141-0001, expires on October 31, 2016; (ii) 3141-0003, expires on October 31, 2016; (iii) 3141-0004, expires on October 31, 2015; (iv) 3141-0007, expires on November 30, 2015; and (v) 3141-0012, expires on October 31, 2015.

List of Subjects

25 CFR Part 502

Gaming, Indians-lands.

25 CFR Part 513

Claims, Gambling, Government employees, Income taxes, Wages.

25 CFR Part 514

Gambling, Indians-lands, Indians-tribal government, Reporting and recordkeeping requirements.

25 CFR Part 516

Administrative practice and procedure, Gambling, Indians-lands, Reporting and recordkeeping requirements.

25 CFR Part 522

Gambling, Indians-lands, Indians-tribal government, Reporting and recordkeeping requirements.

25 CFR Part 531

Gambling, Indians-lands, Indians-tribal government, Reporting and recordkeeping requirements.

25 CFR Part 533

Gambling, Indians-lands, Indians-tribal government, Reporting and recordkeeping requirements.

25 CFR Part 535

Gambling, Indians-lands, Indians-tribal government, Reporting and recordkeeping requirements.

25 CFR Part 556

Gaming, Indians-lands.

25 CFR Part 559

Gambling, Indians-lands, Indians-tribal government, Notification and submission requirements-facility licenses.

25 CFR Part 571

Gambling, Indians-lands, Indians-tribal government, Reporting and recordkeeping requirements.

25 CFR Part 573

Enforcement, Enforcement actions, Gambling, Gaming, Indians, Indians-gaming.

25 CFR Part 575

Gaming, Indians-lands, Fines.

25 CFR Part 580

Appeals, Gambling, Indians-lands.

For the reasons set forth in the Preamble, the Commission revises 25 CFR parts 502, 513, 514, 516, 522, 531, 533, 535, 556, 559, 571, 573, 575, and 580 as follows:

PART 502—DEFINITIONS OF THIS CHAPTER

1. The authority citation for part 502 continues to read as follows:

Authority: 25 U.S.C. 2701 et seq.

2. Revise § 502.1 to read as follows:

§ 502.1 Chairman (Chair).

Chairman (Chair) means the Chairman of the National Indian Gaming Commission or his or her designee.

PART 513—DEBT COLLECTION

3. The authority citation for part 513 continues to read as follows:

Authority: 31 U.S.C. 3711, 3716-3718, 3720A, 3720D; 5 U.S.C. 5514; 25 U.S.C. 2713(a)(1).

§ 513.4 [Amended]

4. In § 513.4(b), remove the phrase “part 577” and add in its place the phrase “parts 580 through 585”.

§ 513.32 [Amended]

5. In the last sentence of § 513.32(a), remove the phrase “part 577” and add in its place the phrase “parts 580 through 585”.

PART 514—FEES

6. The authority citation for part 514 continues to read as follows:

Authority: 25 U.S.C. 2706, 2710, 2717, 2717a.

7. Revise the first sentence of § 514.8 to read as follows:

§ 514.8 Where should fees, quarterly statements, and other communications about fees be sent?

The statements, remittances, and communications about fees shall be transmitted to the Commission at the following address: NIGC Attn: Comptroller, C/O Department of the Interior, 1849 C Street NW., Mail Stop #1621, Washington, DC 20240. * * *

§ 514.10 [Amended]

8. In § 514.10, remove the phrase “573.6(a)(2)” everywhere it appears and add in its place the phrase “573.4(a)(2)”.

9. Revise the first sentence of § 514.17(c) to read as follows:

§ 514.17 How are fingerprint processing fees collected by the Commission?

* * * * *

(c) Fingerprint fees shall be sent to the following address: NIGC Attn: Comptroller, C/O Department of the Interior, 1849 C Street NW., Mail Stop #1621, Washington, DC 20240. * * *

PART 516—TESTIMONY OF COMMISSIONERS AND EMPLOYEES AND FORMER COMMISSIONERS AND FORMER EMPLOYEES RESPECTING OFFICIAL DUTIES; RESPONSE TO SUBPOENA

10. The authority citation for part 516 continues to read as follows:

Authority: 5 U.S.C. 301; 25 U.S.C. 2706; 25 U.S.C. 2716(a); 18 U.S.C. 1905.

11. Revise § 516.4(b) to read as follows:

§ 516.4 How are records certified or authenticated?

* * * * *

(b) A request for certified copies of records or for authentication of copies of records shall be sent to the following address: NIGC Attn: Freedom of Information Act Officer, C/O Department of the Interior, 1849 C Street NW., Mail Stop #1621, Washington, DC 20240.

PART 522—SUBMISSION OF GAMING ORDINANCE OR RESOLUTION

12. The authority citation for part 522 continues to read as follows:

Authority: 25 U.S.C. 2706, 2710, 2712.

§ 522.5 [Amended]

13. In § 522.5, remove the phrase “part 524” everywhere it appears and add in its place the phrase “part 582”.

§ 522.7 [Amended]

14. In § 522.7, remove the phrase “part 524” everywhere it appears and add in its place the phrase “part 582”.

§ 522.10 [Amended]

15. In § 522.10:

a. In paragraph (c), remove the word “Tribe” and add in its place the word “tribe”.

b. In paragraph (f), add a comma after the word “limits”.

PART 531—CONTENT OF MANAGEMENT CONTRACTS

16. The authority citation for part 531 continues to read as follows:

Authority: 25 U.S.C. 81, 2706(b)(10), 2710(d)(9), 2711.

§ 531.1 [Amended]

17. In § 531.1:

a. In paragraph (b)(4), add a comma after the word “training”.

b. In paragraph (b)(6), add the word “gaming” before the word “operation's”.

c. In paragraph (b)(16), remove the words “National Indian Gaming Commission (NIGC, or the Commission)” and add in their place the word “Commission”.

PART 533—APPROVAL OF MANAGEMENT CONTRACTS

18. The authority citation for part 533 continues to read as follows:

Authority: 25 U.S.C. 81, 2706(b)(10), 2710(d)(9), 2711.

§ 533.2 [Amended]

19. In the last sentence of § 533.2, remove the phrase “part 539” and add in its place the phrase “part 583”.

§ 533.3 [Amended]

20. In § 533.3:

a. In paragraph (a)(1), add the word “and” after “contractor;”.

b. In paragraph (a)(2), remove “; and” and add a period in its place.

§ 533.6 [Amended]

21. In § 533.6(b)(3), remove the words “this Act” and add in its place the words “the Act”.

PART 535—POST-APPROVAL PROCEDURES

22. The authority citation for part 535 continues to read as follows:

Authority: 25 U.S.C. 81, 2706(b)(10), 2710(d)(9), 2711.

§ 535.1 [Amended]

23. In § 535.1:

a. In paragraph (d)(2), remove the semicolon at the end of the sentence and add a period in its place.

b. In paragraph (d)(3), remove the phrase “part 539” everywhere it appears and add in its place the phrase “part 583”.

§ 535.3 [Amended]

24. In § 535.3:

a. Remove the phrase “part 577” and add in its place the phrase “part 584 or part 585”.

b. In the second sentence, remove the word “void” and add in its place the word “voiding”.

PART 556—BACKGROUND INVESTIGATIONS FOR PRIMARY MANAGEMENT OFFICIALS AND KEY EMPLOYEES

25. The authority citation for part 556 continues to read as follows:

Authority: 25 U.S.C. 2706, 2710, 2712.

§ 556.2 [Amended]

26. In § 556.2(a), add a comma after the word “criminal”.

§ 556.5 [Amended]

27. In § 556.5(a)(3) add a comma after the word “habits”.

§ 556.8 [Amended]

28. In the first sentence of § 556.8, remove the word “the” before the word “February”.

PART 559—FACILITY LICENSE NOTIFICATIONS AND SUBMISSIONS

29. The authority citation for part 559 continues to read as follows:

Authority: 25 U.S.C. 2701, 2702(3), 2703(4), 2705, 2706(b)(10), 2710, 2719.

§ 559.1 [Amended]

30. In § 559.1(a), remove the word “obtain” and add in its place the word “obtains”.

§ 559.4 [Amended]

31. In the last sentence of § 559.4, add a comma after the word “standards”.

§ 559.5 [Amended]

32. In the section heading to § 559.5, remove the phrase “Does a tribe need to” and add in its place the phrase “Must a tribe”.

PART 571—MONITORING AND INVESTIGATIONS

33. The authority citation for part 571 continues to read as follows:

Authority: 25 U.S.C. 2706(b), 2710(b)(2)(C), 2715, 2716.

34. Revise the last sentence of § 571.3 to read as follows:

§ 571.3 Confidentiality.

* * * The confidentiality of documents submitted in a multiple-party proceeding is addressed in § 584.9 of this chapter.

§ 571.4 [Amended]

35. In § 571.4:

a. In the first sentence, remove the word “NIGC” and add in its place the word “Commission”.

b. Add the phrase “or resolution” after the word “ordinance”.

§ 571.11 [Amended]

36. In § 571.11(a), remove the phrase “part 577” and add in its place the phrase “part 584”.

PART 573—COMPLIANCE AND ENFORCEMENT

37. The authority citation for part 573 continues to read as follows:

Authority: 25 U.S.C. 2706(b)(10), 2713; E.O. 13175, 65 FR 67249, 3 CFR, 2000 Comp., p.304.

§ 573.1 [Amended]

38. In the last sentence in § 573.1, remove the word “notice” and add in its place the word “notices”.

39. Revise the first sentence of § 573.2(a) to read as follows:

§ 573.2 When may a letter of concern be issued?

(a) Prior to the Chair taking an enforcement action, a letter of concern may be provided by NIGC staff, detailing concerns regarding compliance with the Act, this chapter, or any tribal ordinance or resolution approved by the Chair under part 522 of this chapter. * * *

* * * * *

§ 573.4 [Amended]

40. In § 573.4:

a. In paragraph (a)(1)(ii), remove the word “provides” and add in its place the phrase, “is served with”.

b. In paragraph (a)(5), remove the phrase “having been”.

c. In paragraph (a)(10), remove “558.2” and add in its place “556.5” and remove “558.5” and add in its place “558.4”.

d. In paragraph (c)(3), remove “subchapter H” and add in its place “part 584 or part 585”.

PART 575—CIVIL FINES

41. The authority citation for part 575 continues to read as follows:

Authority: 25 U.S.C. 2705(a), 2706, 2713, 2715.

§ 575.6 [Amended]

42. In § 575.6, remove “part 577” everywhere it appears and add in its place “part 584 or part 585”.

§ 575.9 [Redesignated as § 575.7]

43. Redesignate § 575.9 as § 575.7, and in newly redesignated § 575.7(a), remove “part 577” and add in its place “part 584 or part 585”.

PART 580—COMPLIANCE RULES OF GENERAL APPLICATION IN APPEAL PROCEEDINGS BEFORE THE COMMISSION

44. The authority citation for part 580 continues to read as follows:

Authority: 25 U.S.C. 2706, 2713, 2715.

§ 580.6 [Amended]

45. In the last sentence of § 580.6, remove the phrase “in the computation” and add in its place the phrase “from the computation”.

§ 580.12 [Amended]

46. In the first sentence of § 580.12, remove the acronym “NIGC” and add in its place the word “Commission”.

Dated: May 28, 2015.
Jonodev O. Chaudhuri,
Chairman.
Daniel J. Little,
Associate Commissioner.

[FR Doc. 2015-13645 Filed 6-4-15; 8:45 am]

BILLING CODE 7565-01-P